DEPARTMENT OF ENERGY

Federal Energy Regulatory Commission

[Docket No. CP14-503-000]

Enable Gas Transmission, LLC; Notice of Request Under Blanket Authorization

Take notice that on June 20, 2014, Enable Gas Transmission, LLC (EGT) filed in Docket No. CP14-503-000 a Prior Notice request pursuant to Section 157.205 of the Commission's Regulations under the Natural Gas Act (NGA), and EGT's blanket certificate issued in Docket Nos. CP82-384-000 and CP82-384-001. EGT seeks authorization to install a new pipeline lateral, located in Grady and McClain Counties in the State of Oklahoma, all as more fully set forth in the application which is on file with the Commission and open to public inspection.

Specifically, EGT proposes to install about 16.2 miles of 24-inch diameter pipeline to be known as Line AD-607 and necessary appurtenant facilities in Grady and McClain Counties, Oklahoma. EGT states that Line AD-607 will connect EGT's Line AD-East with a natural gas processing plant currently being constructed, known as the Bradley Processing Plant.

Any questions regarding this application should be directed to Michelle Willis, Manager Regulatory & Compliance, Enable Gas Transmission, LLC, P. O. Box 21743, Shreveport, Louisiana 71151, by telephone at (318) 429-3708, by FAX at (318) 429-3133 or by email at michelle.willis@enablemidstream.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Protests will be considered by the Commission in determining the appropriate action to be taken, but will not serve to make protestants parties to the proceeding. Any person wishing to become a party must file a notice of intervention or motion to intervene, as appropriate. Such motions or protests must be filed on or before the comment date. Anyone filing a motion to intervene or protest must serve a copy of that document on the Applicant. On or before the comment date, it is not necessary to serve motions to intervene or protests on persons other than the Applicant.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non party commentors will not receive copies of all documents filed by other parties or issued by the Commission (except for the mailing of environmental documents issued by the Commission) and will not have the right to seek court review of the Commission's final order.

The Commission encourages electronic submission of comments, protests, and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Dated: June 30, 2014.
Kimberly D. Bose,
Secretary.

[FR Doc. 2014-15995 Filed 7-8-14; 8:45 am]

BILLING CODE 6717-01-P